DEPARTMENT OF TRANSPORTATION

Federal Highway Administration

[Docket No. FHWA-2025-0499]

Agency Information Collection Activities: Notice of Request for Reinstatement of a Previously Approved Information Collection

AGENCY: Federal Highway Administration (FHWA), DOT.

ACTION: Notice of request for reinstatement of a previously approved information collection.

SUMMARY: The FHWA invites public comments about our intention to request the Office of Management and Budget's (OMB) approval for reinstatement of a previously approved information collection that is summarized below under SUPPLEMENTARY INFORMATION. We are required to publish this notice in the Federal Register by the Paperwork Reduction Act of 1995.

DATES: Please submit comments by February 13, 2026.

ADDRESSES: You may submit comments identified by DOT Docket ID Number 0499 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Latoya Jones, (404) 562-3587, Office of Administration, Federal Highway Administration, Department of Transportation, 1200 New Jersey Avenue SE, Washington, DC 20590. Office hours are from 7 a.m. to 4 p.m., Monday through Friday, except Federal holidays.

SUPPLEMENTARY INFORMATION:

Title: Dwight David Eisenhower Transportation Fellowship Program (DDETFP).

OMB Control: 2125-0617.

Background: The purpose of the DDETFP is to: (1) to attract the Nation's brightest minds to the field of transportation; (2) to enhance the careers of transportation professionals by encouraging them to seek advanced degrees; and (3) to retain top talent in the transportation industry of the United States (U.S.). The DDETFP is intended to enhance the breadth and scope of knowledge of the entire transportation community in the U.S.

Respondents: Individual students apply for the DDETFP Graduate and Grants for Research Fellowship and Institutions of Higher Education for the Local Competition Fellowship.

Frequency: Annually.

Estimated Average Burden per Response: 4 hours.

Estimated Total Annual Burden Hours: 1,080 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: December 10, 2025.
Jazmyne Lewis,
Information Collection Officer.

[FR Doc. 2025-22742 Filed 12-12-25; 8:45 am]

BILLING CODE 4910-22-P